NUCLEAR REGULATORY COMMISSION

10 CFR Chapter I

RIN 3150-AH84

Expanded Definition of Byproduct Material; Notification of Impending Waiver Termination

AGENCY: Nuclear Regulatory Commission.

ACTION: Notice of impending waiver termination.

SUMMARY: Section 651(e) of the Energy Policy Act of 2005 (EPAct) authorized the U.S. Nuclear Regulatory Commission (Commission or NRC) to issue a time-limited waiver (70 FR 51581; August 31, 2005) to allow continued use and possession of naturally-occurring and accelerator-produced radioactive materials (NARM) while the Commission developed a regulatory framework for regulation of the new byproduct material. The Commission has begun terminating the time-limited waiver in phases in accordance to the provisions of the “Plan for the Transition of Regulatory Authority Resulting from the Expanded Definition of Byproduct Material” (transition plan) issued by the Commission on October 19, 2007 (72 FR 59157). The first phase of waiver terminations occurred on November 30, 2007.

This document provides advance notification that on September 30, 2008, the Commission will terminate the time-limited waivers for the following non-Agreement States and remaining U.S. Territories that have been included in Phase 2.

Guam, Idaho, Missouri, South Dakota, Vermont, West Virginia, and all territories and possessions of the U.S. that were not identified as part of the first phase of waiver terminations.

As provided in the transition plan, users of NARM in non-Agreement States and U.S. Territories will be required to (1) apply for license amendments for the new byproduct material within 6 months from the date the waiver is terminated, if they hold an NRC specific byproduct materials license; or (2) submit a license application for the new byproduct material within 12 months from the date the waiver is terminated for their State or territory.

FOR FURTHER INFORMATION CONTACT: Kim K. Lukes, Office of Federal and State Materials and Environmental Management Programs, U.S. Nuclear Regulatory Commission, Washington, DC 20555-0001, telephone (301) 415-6701 or e-mail KXK2@NRC.GOV.

Dated at Rockville, Maryland, this 12th day of March, 2008.
For the Nuclear Regulatory Commission.
Annette L. Vietti-Cook,
Secretary of the Commission.

[FR Doc. E8-5390 Filed 3-17-08; 8:45 am]

BILLING CODE 7590-01-P